DEPARTMENT OF HEALTH AND HUMAN SERVICES

Centers for Disease Control and Prevention

[60Day-15-15AME; Docket No. CDC-2015-0043]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on a Monitoring and Reporting System for the National Tobacco Control Program. CDC will use the information collected to monitor cooperative agreement awardees and to identify facilitators and challenges to program implementation and achievement of outcomes.

DATES: Written comments must be received on or before August 4, 2015.

ADDRESSES: You may submit comments, identified by Docket No. CDC-2015-0043 by any of the following methods:

Federal eRulemaking Portal: Regulation.gov. Follow the instructions for submitting comments.

Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Monitoring and Reporting System for the National Tobacco Control Program—New—National Center for Chronic Disease Prevention and Health Promotion (NCCDPHP), Centers for Disease Control and Prevention (CDC).

Background and Brief Description

The Centers for Disease Control and Prevention (CDC) works with states, territories, tribal organizations, and the District of Columbia (collectively referred to as “state-based” programs) to develop, implement, manage, and evaluate tobacco prevention and control programs. Support and guidance for these programs have been provided through cooperative agreement funding and technical assistance administered by CDC's National Center for Chronic Disease Prevention and Health Promotion (NCCDPHP). Partnerships and collaboration with other federal agencies, nongovernmental organizations, local communities, public and private sector organizations, and major voluntary associations have been critical to the success of these efforts.

NCCDPHP cooperative agreements DP15-1509 (National State-Based Tobacco Control Programs) and DP14-1410PPHF14 (Public Health Approaches for Ensuring Quitline Capacity) continue to support efforts since 1999 to build state health department infrastructure and capacity to implement comprehensive tobacco prevention and control programs. Through these cooperative agreements, health departments in all 50 states, the District of Columbia, Puerto Rico and Guam are funded to implement evidence-based environmental, policy, and systems strategies and activities designed to reduce tobacco use, secondhand smoke exposure, tobacco-related disparities and associated disease, disability, and death.

CDC plans to request OMB approval to collect information from the 53 state-based programs funded under both DP15-1509 and DP14-1410PPHF14. Awardees will report information about their work plan objectives, activities, and performance measures. Each awardee will submit an Annual Work Plan Progress Report using an Excel-based Work Plan Tool. The estimated burden per response is 3 hours for each Annual Work Plan Progress report. In addition, each awardee will submit an Annual Budget Progress Report using an Excel-based Budget Tool. The estimated burden per response is two hours for each Annual Budget Progress Report.

In Year 1, each awardee will have additional burden related to initial population of the reporting tools. Initial population of the Work Plan Tool is estimated to be 6 hours per response, and initial population of the Budget Tool is estimated to be 4 hours per response. Initial population of the tools is a one-time activity which is annualized over the 3 years of the information collection request. Due to annualization, the 53 awardees are represented as 18 awardees (53/3) in the burden table. After completing the initial population of the tools, pertinent information only needs to be updated for each annual report. The same instruments will be used for all information collection and reporting.

Awardees will upload their information to www.grants.gov on an annual basis to satisfy routine cooperative agreement reporting requirements. Although reporting is required once per year, data entry can occur on a real-time basis. As a result, the reporting tools can also be used for ongoing program management, and support more effective, data-driven technical assistance between NCCDPHP and awardees.

CDC will use the information collected to monitor each awardee's progress and to identify facilitators and challenges to program implementation and achievement of outcomes. Monitoring allows CDC to determine whether an awardee is meeting performance and budget goals and to make adjustments in the type and level of technical assistance provided to them, as needed, to support attainment of their performance measures. Monitoring and evaluation activities also allow CDC to provide oversight of the use of federal funds, and to identify and disseminate information about successful prevention and control strategies implemented by awardees. These functions are central to NCCDPHP's broad mission of reducing the burden of chronic diseases. Finally, the information collection will allow CDC to monitor the increased emphasis on partnerships and programmatic collaboration, and is expected to reduce duplication of effort, enhance program impact and maximize the use of federal funds.

OMB approval is requested for three years. Participation in the information collection is required as a condition of funding. There are no costs to respondents other than their time.

Estimated Annualized Burden Hours
Type of respondent | Form name | Number of respondents | Number of responses per respondent | Average burden per response (in hrs.) | Total burden (in hrs.)
State Tobacco Control Managers | Initial Population of the Work Plan Tool | 18 | 1 | 6 | 108
| Annual Work Plan Progress Report | 53 | 1 | 3 | 159
| Initial Population of the Budget Tool | 18 | 1 | 4 | 72
| Annual Budget Progress Report | 53 | 1 | 2 | 106
Total |  |  |  |  | 445

Leroy A. Richardson,
Chief, Information Collection Review Office, Office of Scientific Integrity, Office of the Associate Director for Science, Office of the Director, Centers for Disease Control and Prevention.

[FR Doc. 2015-13797 Filed 6-4-15; 8:45 am]

BILLING CODE 4163-18-P